Title 3—

The President

Proclamation 8420 of September 21, 2009

National Farm Safety and Health Week, 2009

By the President of the United States of America

A Proclamation

Our Nation’s prosperity has been built on the skill and productivity of our farmers and ranchers. Two centuries ago, many American families toiled in fields and grasslands so that they might feed themselves. Today, those in the agricultural sector provide food, fiber, biofuels, and many other life necessities for millions across our Nation and around the world. The hard work and talent of those in the agricultural industry, and continued advances in technology and efficiency, have provided great security to the United States.

As they offer great benefits to our Nation, farmers and ranchers also face significant risks in the course of their everyday duties. They often transport and operate heavy and hazardous equipment and work in extreme weather conditions. Farmers may be exposed to pesticides, fertilizers, chemicals, and dust that can be harmful to human health. They also work in dangerous areas such as wells, silos, and grain elevators. These individuals must take great precautions to protect their health and safety, especially since rural residents may have to travel long distances to receive trauma care for an accident-related injury. They must also take particular care to avoid accidents involving children.

As the fall harvest season approaches, I encourage farm and ranch families and workers to participate in farm safety and health programs. I also encourage them to follow optimal farm safety and health practices. Businesses and communities, and organizations and neighbors, can encourage one another to understand the risks of this work so that we can prevent accidents, prevent exposure to potential hazards, and save lives.

Working long hours at physically demanding and often dangerous tasks, farmers and ranchers provide for our Nation and countless others across the world. Even as they have faced risks, they have made our agricultural sector more productive and practiced good stewardship of our country’s natural resources. This week, Americans express gratitude for the untold benefits we enjoy from their labor, and we honor their achievements by urging continued commitment to the highest standards of safety and health.

NOW, THEREFORE, I, BARACK OBAMA, President of the United States of America, by virtue of the authority vested in me by the Constitution and laws of the United States, do hereby proclaim September 20 through September 26, 2009, as National Farm Safety and Health Week. I call upon the people of the United States to join me in celebrating the vital contributions of farmers and ranchers to our Nation and in reflecting upon the importance of farm safety and health in communities across America.

IN WITNESS WHEREOF, I have hereunto set my hand this twenty-first day of September, in the year of our Lord two thousand nine, and of the Independence of the United States of America the two hundred and thirty-fourth.

[FR Doc. E9-23414

Filed 9-24-09; 11:15 am]

Billing code 3195-W9-P